DEPARTMENT OF THE INTERIOR

Bureau of Reclamation

San Luis Reservoir and Los Banos Creek State Recreation Area Joint General Plan and Resource Management Plan, Merced County, CA

AGENCY: Bureau of Reclamation, Interior.

ACTION: Notice of intent to prepare a programmatic environmental impact statement/environmental impact report (PEIS/EIR).

SUMMARY: Pursuant to section 102(2)(c) of the National Environmental Policy Act (NEPA), the Bureau of Reclamation, in cooperation with the California Department of Parks and Recreation (DPR), proposes to prepare a draft PEIS/EIR for the San Luis Reservoir and Los Banos Creek State Recreation Area (SRA) joint General Plan and Resource Management Plan (GP/RMP). Scoping meetings are being conducted to elicit comments on the scope and issues to be addressed in the draft PEIS/EIR. The dates and times for the meetings are noted below.

DATES: The first scoping meeting was held on Saturday, January 11, 2003, from 10 a.m. to 2 p.m. in Gustine, California. The second scoping meeting will be held on Thursday, February 20, 2003, from 1 p.m. to 3 p.m. in Gustine, California.

Written comments should be sent to Reclamation at the address below by March 10, 2003.

ADDRESSES: The meeting location is at the California Department of Parks and Recreation, Four Rivers District Office, 31426 Gonzaga Road, Gustine, CA, 95322.

Written comments should be sent to Mr. Dan Holsapple, Bureau of Reclamation, South-Central California Area Office, 1243 N Street, Fresno, CA 93721-1813; or faxed to 559-487-5130 (TDD 559-487-5933); or e-mail: dholsapple@mp.usbr.gov.

FOR FURTHER INFORMATION CONTACT: Mr. Dan Holsapple, Bureau of Reclamation, at the above address, telephone: 559-487-5409; or Dennis Imhoff, CEQA Coordinator, California Department of Parks and Recreation, Four Rivers District, 31426 Gonzaga Road, Gustine, CA 95322, telephone: 209-826-1197, e-mail: dimho@parks.ca.gov.

SUPPLEMENTARY INFORMATION: San Luis Reservoir is approximately 5 miles west of the City of Los Banos, adjacent to State Route 152, in Merced County, California. Los Banos Creek State Recreation Area is located about 5 miles southwest of the City of Los Banos, south of State Route 152, off Volta Road, just west of Interstate 5.

Reclamation and DPR are preparing a joint draft PEIS/EIR. DPR will be the Lead Agency for the California Environmental Quality Act (CEQA) and Reclamation will be the Lead Agency for NEPA.

DPR's General Plan Unit, in conjunction with its Four Rivers District Office, is developing the General Plan (GP) portion of the GP/RMP, in accordance with Public Resources Code § 5002.2 (General Plan guidelines) and § 21000 et seq. (CEQA). The purpose of the GP is to guide future development activities and management objectives at the Park. Reclamation is developing a RMP portion of the GP/RMP, pursuant to the Reclamation Recreation Management Act of 1992, Title 28, Pub. L. 102-575, the Council on Environmental Quality Regulations (CEQ) (40 CFR 1500-08) and the Federal Water Project Recreation Act. Reclamation and DPR are cooperating to prepare the GP/RMP in a consolidated planning process to solicit agency and stakeholder participation for both efforts simultaneously. The project areas for each plan will vary, based on differences in management and ownership; however, there will be common components within the joint GP/RMP.

The San Luis Reservoir and the Los Banos Creek Retention Dam were built in 1965 as part of the Central Valley Project on lands owned by Reclamation. The lands are jointly managed by the California Department of Water Resources (DWR) and DPR. DPR is responsible for recreation and resource management while DWR manages the water supply facilities.

There are additional tracts of land, managed by the California Department of Fish and Game (DFG) in the vicinity of the San Luis Reservoir, which were set aside to mitigate for construction impacts. These DFG-managed lands will not be part of the GP and PEIR/EIS, as DPR does not have management jurisdiction over these lands.

San Luis Reservoir Wildlife Area and O'Neill Forebay Wildlife Area, federally owned lands which are managed by DFG, will be included in the RMP and PEIR/EIS.

The objectives of the GP/RMP are to establish management objectives, guidelines, and actions to be implemented by Reclamation directly, or through its recreation contract with DPR to:

• Protect the water supply and water quality functions of the reservoirs,

• Protect and enhance natural and cultural resources in the SRA, consistent with Federal law and Reclamation policies,

• Provide recreational opportunities and facilities consistent with the Central Valley Project purposes.

The GP/RMP will be the primary management guideline for defining a framework for resource stewardship, interpretation, facilities, visitor use, and services. The joint plan will define an ultimate purpose, vision and intent for management through goal statements, guidelines, and broad objectives. The GP/RMP will be a long-term plan that will guide future specific actions at the SRA. Subsequent specific actions will be the subject of future environmental analysis as required.

We would like to know the views of interested persons, organizations, and agencies as to the scope and content of the information to be included and analyzed in the draft PEIS/EIR. Agencies should comment on the elements of the environmental information that are relevant to their statutory responsibilities in connection with the proposed project.

It is Reclamation's practice to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 3, 2003.
Frank Michny,
Regional Environmental Officer, Mid-Pacific Region.

[FR Doc. 03-3023 Filed 2-6-03; 8:45 am]

BILLING CODE 4310-MN-P